DEPARTMENT OF THE INTERIOR

Bureau of Land Management

[ES-010-1430-ET; FL-ES-051481]

Public Land Order No. 7542; Transfer of Jurisdiction; Florida

AGENCY: Bureau of Land Management, Interior.

ACTION: Public Land Order.

SUMMARY: This order modifies the Executive Order dated January 9, 1838 and transfers the administrative jurisdiction of 49.83 acres of land located at the Pensacola Naval Air Station from the Department of the Navy to the Department of Veterans Affairs for the expansion and operation of the Barrancas National Cemetery.

EFFECTIVE DATE: October 8, 2002.

FOR FURTHER INFORMATION CONTACT: Duane Winters, Jackson Field Office, 411 Briarwood Drive, Suite 404, Jackson, Mississippi 39206, 601-977-5403.

Order

By virtue of the authority vested in the Secretary of the Interior by Section 204 of the Federal Land Policy and Management Act of 1976, 43 U.S.C. 1714 (1994), it is ordered as follows:

1. Subject to valid existing rights, the Executive Order dated January 9, 1838, which withdrew public domain land for the benefit of the United States Navy, is hereby modified to transfer administrative jurisdiction of the following described land from the Department of the Navy to the Department of Veterans Affairs, to manage as part of the National Cemetery System:

Tallahassee Meridian

T. 3 S., R. 30W.,

Tract 6.

The area described contains 49.83 acres in Escambia County.

2. The land described in Paragraph 1 remains withdrawn from all forms of appropriation and disposition under the public land laws, including the mining laws, but not from leasing under the mineral leasing laws.

Dated: September 13, 2002.
Rebecca W. Watson,
Assistant Secretary—Land and Minerals Management.

[FR Doc. 02-25578 Filed 10-7-02; 8:45 am]

BILLING CODE 4310-OJ-P